DEPARTMENT OF TRANSPORTATION

Federal Aviation Administration

14 CFR Part 71

Proposed Modification of the Miami, FL, Class B Airspace; and the Fort Lauderdale, FL, Class C Airspace Areas; Public Meeting

AGENCY: Federal Aviation Administration (FAA), DOT.

ACTION: Notice of meeting.

SUMMARY: This notice announces a fact-finding informal airspace meeting regarding a plan to modify the Miami, FL, Class B Airspace, and the Fort Lauderdale, FL, Class C Airspace areas. The purpose of the meeting is to provide interested parties an opportunity to present views, recommendations, and comments on any proposed change to the airspace. All comments received during the meeting will be considered prior to any revision or issuance of a notice of proposed rulemaking.

DATES: The meeting will be held on Wednesday, February 27, 2019, from 3:00 p.m. to 5:30 p.m. Comments must be received on or before March 29, 2019.

ADDRESSES: The meeting will be held at the following location: Broward College, South Campus Building 69, Room 133, 7200 Pines Blvd., Pembroke Pines, FL 33024.

Comments: Send comments on the proposal, in triplicate, to: Ryan Almasy, Manager, Operations Support Group, Eastern Service Area, Air Traffic Organization, Federal Aviation Administration, P.O. Box 20636, Atlanta, GA, 30320; or via email to: 9-AJV-MIAClassBComments@faa.gov.

FOR FURTHER INFORMATION CONTACT: Bob Hildebidle, Manager, Miami ATCT/TRACON, 6400 NW 22nd St., Miami, FL 33122. Telephone: (305) 869-5402.

SUPPLEMENTARY INFORMATION:

Meeting Procedures

(a) The meeting will be informal in nature and will be conducted by one or more representatives of the FAA Eastern Service Area. A representative from the FAA will present a briefing on the planned airspace modifications. Each participant will be given and opportunity to deliver comments or make a presentation, although a time limit may be imposed to accommodate closing times. Only comments concerning the plan to modify the Miami, FL, Class B Airspace, and the Fort Lauderdale, FL, Class C Airspace areas will be accepted.

(b) The meeting will be open to all persons on a space-available basis. There will be no admission fee or other charge to attend and participate.

(c) Any person wishing to make a presentation will be asked to sign in so those time frames can be established. This will permit the panel to allocate an appropriate amount of time for each presenter. This meeting will not be adjourned until everyone on the list has had an opportunity to address the panel. This meeting may be adjourned at any time if all persons present have had an opportunity to speak.

(d) Position papers or other handout material relating to the substance of the meeting will be accepted. Participants submitting handout materials should present an original and two copies to the presiding officer. There should be an adequate number of copies for distribution to all participants.

(e) This meeting will not be formally recorded. However, a summary of the comments made at the meeting will be filed in the docket.

Information gathered through this meeting will assist the FAA in drafting a Notice of proposed rulemaking (NPRM). The public will be afforded the opportunity to comment on any NPRM published on this matter.

Agenda for the Meeting

—Sign-in

—Presentation of Meeting Procedures

—Informal Presentation of the Planned Airspace Modifications

—Public Presentations and Discussions

—Closing Comments

Authority: 49 U.S.C. 106(f), 106(g); 40103, 40113, 40120; E.O.10854, 24 FR 9565, 3 CFR, 1959-1963 Comp., p. 389.

Issued in Washington, DC, on December 17, 2018.
Scott M. Rosenbloom,
Acting Manager, Airspace Policy Group.

[FR Doc. 2018-28114 Filed 12-26-18; 8:45 am]

BILLING CODE 4910-13-P